DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of March 1, 2021 through March 31, 2021. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,380 | Columbian Home Products, LLC | Terre Haute, IN | November 15, 2018.
95,484 | Anthony Timberlands, Inc | Beirne, AR | December 16, 2018.
95,769 | Stewart and Stevenson, LLC, Manufacturing, Kirby, TPI Staffing, Weldforce Fabricators, etc | Houston, TX | March 3, 2019.
96,080 | Hemlock Semiconductor Operations LLC, HSC Holdings LLC, Qualified Staffing Services, Adecco USA Inc | Hemlock, MI | July 22, 2019.
96,120 | Sunbury Textile Mills, Inc., Glen Raven Custom Fabrics, LLC, Ravenwood International Corp | Sunbury, PA | August 4, 2019.
96,175 | Exterran Energy Solutions, L.P., Compression Fabrication Services, Exterran, Aerotek, etc | Houston, TX | September 2, 2019.
96,196 | Cameron International Corporation, Schlumberger Limited | Little Rock, AR | September 16, 2019.
96,402 | JSW Steel (USA), Inc | Baytown, TX | September 25, 2019.
96,553 | Entergy Nuclear Operations, Inc | Buchanan, NY | September 28, 2019.
96,610 | Kennametal, Industrial | Johnson City, TN | November 10, 2019.
96,671 | Tube Forgings of America, Inc | Portland, OR | January 14, 2020.
96,721 | EVRAZ Oregon Steel | Portland, OR | April 20, 2020.

The following certifications have been issued. The requirements of Section 222(a)(2)(B) (Shift in Production or Services to a Foreign Country Path or Acquisition of Articles or Services from a Foreign Country Path) of the Trade Act have been met.

TA-W No. | Subject firm | Location | Impact date
95,839 | IPSCO Koppel Tubulars, Inc., Tenaris S.A | Baytown, TX | March 23, 2019.
96,081 | Overhead Door Corporation, TODCO Division, Surge and Custom Staffing | Marion, OH | July 22, 2019.
96,098 | PK USA, Inc., Press Kogyo Co., Ltd | Shelbyville, IN | July 24, 2019.
96,507 | Howmet Aerospace, Howmet Engines Division | Hampton, VA | September 30, 2019.
96,542 | Choice Hotels International Services Corp., Customer Care/Customer Engagement and Support Department | Phoenix, AZ | October 8, 2019.
96,552 | DUS—Operations Inc., Operations and Controlled Systems Division Dura Automotive Systems LLC | Milan, TN | October 12, 2019.
96,562 | Lee Enterprises, Incorporated, Lee BHM Corp., Omaha World-Herald, Advertising Department Lee BHM Corp., and under BH Media Group, Inc | Omaha, NE | October 16, 2019.
96,642 | SuperVista North America, Inc., Marketing | Irvine, CA | December 10, 2019.
96,675 | Cardinal Health, Inc., Presource Division | Fort Mill, SC | January 19, 2020.
96,688 | Torax Medical Inc | Saint Paul, MN | January 27, 2020.
96,690 | HSBC Technology and Services, USA, U.S. Operational Risk Oversight team | Depew, NY | February 12, 2021.
96,695 | Grass Valley USA LLC, Global Billing/Finance | Grass Valley, CA | January 29, 2020.
96,706 | Betsy & Adam Ltd | New York, NY | January 19, 2020.
96,722 | Eaton Corporation | Watertown, WI | February 11, 2020.
96,723 | West Penn Wire, Assembly Dept | Washington, PA | February 11, 2020.
96,726 | Zimmer, Inc. and Zimmer US, Inc., Finance, HR, & Global Customer Operations, wholly owned subsidiaries of Zimmer Biomet Holdings | Warsaw, IN | February 12, 2020.
96,728 | G-III Leather Fashions, JH, VC, and EJ divisions | New York, NY | January 30, 2020.
96,729 | Industrial Connections & Solutions LLC | West Burlington, IA | February 12, 2020.
96,730 | Philips, Sleep & Respiratory Care/Service | Mount Pleasant, PA | February 15, 2020.
96,732 | Breg, Inc | Grand Prairie, TX | July 4, 2021.
96,733 | 3M Technical Ceramics, Inc. (Formerly Ceradyne Inc.), Lexington North | Lexington, KY | February 16, 2020.
96,734 | Medtronic Plc, Manufacturing | Boulder, CO | February 17, 2020.
96,737 | Philips Healthcare, Invivo Manufacturing | Gainesville, FL | July 23, 2021.
96,740 | Savant Systems, Inc., Savant Technologies, LLC dba GE Lighting, a Savant company's Bucyrus Lamp Plant General Electric Company | Bucyrus, OH | February 19, 2020.
96,741 | Eaton Corporation, Power Systems Division Cooper Power Systems | Pewaukee, WI | February 19, 2020.
96,743 | Standard Insurance Company | Portland, OR | February 22, 2020.
96,764 | Alex Apparel Group, Inc | New York, NY | February 24, 2020.
96,765 | LEDVANCE LLC, Headquarters | Wilmington, MA | September 26, 2021.
96,768 | Marley Precision, Inc | Battle Creek, MI | March 4, 2020.
96,768A | Marley Precision, Inc | Battle Creek, MI | March 4, 2020.
96,773 | Hitachi Cable America, Inc., Automotive Products Division | Pensacola, FL | March 8, 2020.

The following certifications have been issued. The requirements of Section 222(b) (supplier to a firm whose workers are certified eligible to apply for TAA) of the Trade Act have been met.

TA-W No. | Subject firm | Location | Impact date
96,635 | Mid-Continent Instrument Co., Inc | Wichita, KS | December 3, 2019.
96,673 | Umbra Cuscinetti, Inc | Everett, WA | January 14, 2020.
96,708 | United States Steel Corporation, Annandale Archives | Boyers, PA | February 1, 2020.

The following certifications have been issued. The requirements of Section 222(e) (firms identified by the International Trade Commission) of the Trade Act have been met.

TA-W No. | Subject firm | Location | Impact date
96,406 | GRI Texas Tower | Amarillo, TX | August 25, 2019.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
96,193 | The Bank of New York Mellon Corp., Operations and Shared Technology (BUD) of Technology II division | East Syracuse, NY

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
96,308 | Albers Finishing & Solutions | Cheney, KS
96,676 | IBEX Global Solutions, Inc | New Braunfels, TX
96,739 | Versum Materials US, LLC | Allentown, PA

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,838 | Medical Depot Inc., Drive DeVilbiss Healthcare, Medical Depot Holdings Inc | Santa Fe Springs, CA
94,968 | Reflection Foods, BBSI | Tucson, AZ
95,287 | The Yankee Candle Company, Inc., Home Fragrance Business Unit Distribution Center, Newell Brands, etc | South Deerfield, MA
95,287A | The Yankee Candle Company, Inc., Home Fragrance Business Unit Headquarters Offices, Newell Brands, etc | South Deerfield, MA
96,053 | Trane US Inc., Commercial HVAC Americas, Trane Technologies, Remedy | La Crosse, WI
96,105 | Ulterra Drilling Technologies | Fort Worth, TX
96,105A | Ulterra Drilling Technologies | Williston, ND
96,309 | Howmet Castings and Services, Howmet Aerospace | LaPorte, IN
96,664 | LSC Communications, Kendallville Division | Kendallville, IN
96,669 | The Roanoke Times | Roanoke, VA
96,699 | Godiva Chocolatier, Inc., Retail | Saint Louis, MO
96,713 | Simple Finance Technology Corporation | Portland, OR

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
95,187 | Apricot Power Inc | Lakeport, CA

The following determinations terminating investigations were issued in cases where the petition regarding the investigation has been deemed invalid.

TA-W No. | Subject firm | Location | Impact date
96,193A | The Bank of New York Mellon Corp., Operations and Shared Technology (BUD) of Technology II division | Pittsburgh, PA

The following determinations terminating investigations were issued because the petitioning group of workers is covered by an earlier petition that is the subject of an ongoing investigation for which a determination has not yet been issued.

TA-W No. | Subject firm | Location | Impact date
96,766 | EFCO Corporation | Springfield, MO

I hereby certify that the aforementioned determinations were issued during the period of March 1, 2021 through March 31, 2021. These determinations are available on the Department's website https://www.doleta.gov/tradeact/petitioners/taa_search_form.cfm under the searchable listing determinations or by calling the Office of Trade Adjustment Assistance toll free at 888-365-6822.

Signed at Washington, DC, this 21st day of April 2021.
Hope D. Kinglock,
Certifying Officer, Office of Trade Adjustment Assistance.

[FR Doc. 2021-09473 Filed 5-4-21; 8:45 am]

BILLING CODE 4510-FN-P